OFFICE OF SPECIAL COUNSEL

Agency Information Collection Activities, Request for Comment

Correction

In notice document 2014-20056, appearing on pages 50726-50727, in the issue of Monday, August 25, 2014, make the following correction:

On page 50727, in the first column, under the heading titled “DATES:”, the entry that reads “September xx, 2014.” is corrected to read “September 24, 2014.”

[FR Doc. C1-2014-20056 Filed 8-26-14; 8:45 am]

BILLING CODE 1505-01-D